ENVIRONMENTAL PROTECTION AGENCY

40 CFR Part 52 and 81

[EPA-HQ-OAR-2018-0226; FRL-9993-32-Region 3]

National Ambient Air Quality Standards: Determinations of Attainment, Extensions of the Attainment Date, and Reclassification of Several Areas Classified as Moderate for the 2008 Ozone Standards; Supplemental Proposal; Baltimore, Maryland Area Exceptional Events

AGENCY: Environmental Protection Agency (EPA).

ACTION: Proposed rule; reopening of comment period; availability of supplemental information.

SUMMARY: On November 14, 2018, the Environmental Protection Agency (EPA) proposed several actions related to the attainment date for 11 areas classified as “Moderate” for the 2008 ozone National Ambient Air Quality Standards (NAAQS), including proposing to determine that the Baltimore, Maryland nonattainment area (Baltimore Area) attained the standard by the July 20, 2018 attainment date. Under the statute, EPA must determine whether ozone nonattainment areas attained the NAAQS by the attainment date, and, within six months of the attainment date, publish a document in the Federal Register identifying each area that is determined as having failed to attain and identifying the reclassification. EPA is re-opening the comment period for the proposed rule published on November 14, 2018, but only with respect to EPA's proposed determination for the Baltimore Area, because EPA erroneously omitted documents related to the State of Maryland's exceptional events (EE) demonstration related to the 2016 Canadian wildfires, and in the proposal did not mention EPA's concurrence on certain Maryland EE claims that impacted the air quality data that EPA relied on in its proposed determination that the Baltimore Area attained by its 2008 Moderate Area attainment date. This supplemental proposed rule corrects this omission and provides notice of the availability of the documents supporting EPA's analysis.

DATES: The comment date for the proposed rule published November 14, 2018, at 83 FR 56781, is reopened. Written comments must be received on or before May 22, 2019.

ADDRESSES: Submit your comments, identified by Docket ID No. EPA-HQ-OAR-2018-0226 at https://www.regulations.gov, or via email to spielberger.susan@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Maria A. Pino, (215) 814-2181, Planning & Implementation Branch (3AD30), Air & Radiation Division, U.S. Environmental Protection Agency, Region III, 1650 Arch Street, Philadelphia, Pennsylvania 19103. The telephone number is (215) 814-2181. Ms. Pino can also be reached via electronic mail at pino.maria@epa.gov.

SUPPLEMENTARY INFORMATION: On November 14, 2018, EPA proposed, among other actions, to determine that the Baltimore Area attained the 2008 ozone NAAQS by the July 20, 2018 attainment date. See 83 FR 56781. This supplemental proposal does not address any other actions proposed in that rulemaking relating to ten other Moderate nonattainment areas for the 2008 ozone NAAQS. In this action, EPA is announcing the availability of documents related to Maryland's EE demonstration related to the 2016 Canadian wildfires and EPA's evaluation and concurrence on certain aspects of that demonstration, which can be found in the docket for this rulemaking and online at www.regulations.gov. The documents include Maryland's EE submittals, EPA's technical support documents (TSDs), and EPA's concurrence letter. This action will allow interested persons additional time to review those documents and prepare and submit comments. EPA notes that the supplemental comment period is 15 days due to the narrow scope of this supplemental proposal and the fact that the documents related to Maryland's EE demonstration were previously made available to the public in the docket for the 2015 ozone NAAQS designations.¹

¹ The documents associated with Maryland's EE demonstration are found at document number EPA-HQ-OAR-2017-0548-0336, at www.regulations.gov in Docket ID No. EPA-HQ-OAR-2017-0548 for EPA's Air Quality Designations and Classifications for the 2015 Ozone Standards.

By letters and enclosures dated May 26, 2017 and October 20, 2017, the Maryland Department of the Environment (MDE) submitted EE demonstrations related to the May 25 and 26, 2016 Fort McMurray wildfire and the July 21 and 22, 2016 northwestern Canada wildfires. MDE determined that the Fort McMurray and northwestern Canada wildfires caused elevated ozone concentrations at 16 and 12 monitors, respectively, throughout Maryland. On December 26, 2017, EPA concurred on MDE's EE demonstration for numerous monitors, including three monitors in the Baltimore Area, which includes Baltimore City and the Counties of Anne Arundel, Baltimore, Carroll, Harford, and Howard, all in Maryland. Pursuant to EPA's concurrence, EPA excluded the corresponding data affected by the wildfires from EPA's Air Quality System (AQS), the database in which air quality data is collected. Excluding this data affects the calculated design values at the affected monitors. Due to the exclusion of the EE data, the 2015-2017 design values of the Glen Burnie, Edgewood, and Furley monitors in the Baltimore area changed as shown in Table 1.²

² This data is included in the docket for this rulemaking available online at https://www.regulations.gov, Docket ID: Docket ID: EPA-HQ-OAR-2018-0226.

Table 1—2015-2017 Design Values Before and After EE Data Exclusion, in Parts per Billion (ppb)
Site name | County/city | Monitor ID | Initial 2015-2017 design value | 2015-2017 Design value excluding EE data
Glen Burnie | Anne Arundel County | 240031003 | 74 | 73
Edgewood | Harford County | 240251001 | 76 | 75
Furley | Baltimore City | 245100054 | 72 | 69

The design values shown in the column in Table 1 labelled “2015-2017 Design Value Excluding EE Data” are the design values upon which EPA relied in the Agency's November 14, 2018 proposal. EPA notes that the design values for the Glen Burnie and Furley monitors were below the level of the 2008 ozone NAAQS, which is set at 75 ppb, before the EE data was excluded. However, the design value at the Edgewood monitor (monitor 240251001) only attained the 2008 ozone NAAQS when the EE data that EPA determined was influenced by the Fort McMurray and northwestern Canada wildfires was excluded from AQS. EPA's concurrence on this data exclusion, which influenced EPA's proposed determination of attainment by the attainment date for the 2008 ozone NAAQS, is now available in the docket for this action at www.regulations.gov.

List of Subjects

40 CFR Part 52

Environmental protection, Administrative practice and procedure, Air pollution control, Designations and classifications, Incorporation by reference, Intergovernmental relations, Nitrogen oxides, Ozone, Reporting and recordkeeping requirements and Volatile organic compounds.

40 CFR Part 81

Environmental protection, Administrative practice and procedure, Air pollution control, Designations and classifications, Intergovernmental relations, Nitrogen oxides, Ozone, Reporting and recordkeeping requirements, and Volatile organic compounds.

Authority: 42 U.S.C. 7401 et seq.

Dated: April 25, 2019.
Cosmo Servidio,
Regional Administrator, Region III.

[FR Doc. 2019-09341 Filed 5-6-19; 8:45 am]

BILLING CODE 6560-50-P